DEPARTMENT OF TRANSPORTATION

Federal Highway Administration

Notice of Final Federal Agency Actions on Southtowns Connector/Buffalo Outer Harbor (STC/BOH) City of Buffalo, Erie County, NY

AGENCY: Federal Highway Administration (FHWA), DOT.

ACTION: Notice of Limitation on claims for judicial review of actions by FHWA and other federal agencies.

SUMMARY: This notice announces actions taken by the FHWA and other Federal agencies that are final within the meaning of 23 U.S.C. 139(l)(1). The actions relate to a proposed highway project, that includes a series of transportation access improvements centered around the New York Route 5 corridor along the Lake Erie waterfront in the City of Buffalo, City of Lackawanna, and Town of Hamburg in the State of New York, that is commonly referred to as the Southtowns Connector/Buffalo Outer Harbor (STC/BOH) project. Those actions grant licenses, permits, and approvals for the project.

DATES: By this notice, the FHWA is advising the public of final agency actions subject to 23 U.S.C. 139(l)(1). A claim seeking judicial review of the Federal agency actions on the highway project will be barred unless the claim is filed on or before September 2, 2008. If the Federal law that authorizes judicial review of a claim provides a time period of less than 180 days for filing such claim, then that shorter time period still applies.

FOR FURTHER INFORMATION CONTACT: Jeffrey W. Kolb, P.E., Division Administrator, Federal Highway Administration, New York Division, Leo W. O'Brien Federal Building, 7th Floor, Clinton Avenue and North Pearl Street, Albany, New York 12207, Telephone: (518) 431-4127 or Alan E. Taylor, P.E., Regional Director, NYSDOT Region 5; 100 Seneca Street, Buffalo NY 14203, Telephone: (716) 847-3238.

SUPPLEMENTARY INFORMATION: Notice is hereby given that the FHWA, and other Federal agencies have taken final agency actions subject to 23 U.S.C. 139(l)(1) by issuing licenses, permits, and approvals for the following highway project in the State of New York: Southtowns Connector/Buffalo Outer Harbor (STC/BOH) project in the City of Buffalo, City of Lackawanna, and Town of Hamburg, Erie County. The project will reconstruct/rehabilitate NY Route 5 and Fuhrmann Boulevard (while maintaining them as separate transportation facilities), reconstruct Ohio Street into a landscaped arterial, construct a new arterial called Tifft Street Arterial connecting I-190 with an improved interchange in the Seneca/Elk/Bailey area and traversing south to Tifft Street, east of the existing CSX railroad corridor and through the former LTV/Republic Steel site. The project will also include the construction of various sidewalks, and multi-use paths, and other landscape and aesthetic enhancements within the project limits. The actions by the Federal agencies, and the laws under which such actions were taken, are described in the Final Environmental Impact Statement (FEIS) for the project, approved on May 10, 2006 and in the FHWA Record of Decision (ROD) issued on January 31, 2007. The FEIS, ROD, and other project records are available by contacting the FHWA or the New York State Department of Transportation at the addresses provided above.

This notice applies to all Federal agency decisions related to the Southtowns Connector/Buffalo Outer Harbor (STC/BOH) project as of the issuance date of this notice and all laws under which such actions were taken, including but not limited to:

1. National Environmental Policy Act [42 U.S.C. 4321-4351].

2. Federal-Aid Highway Act [23 U.S.C. 109 and 23 U.S.C. 128].

3. Clean Air Act [42 U.S.C. 7401-7671(q)].

4. Section 4(f) of the Department of Transportation Act of 1966 [49 U.S.C. 303].

5. Endangered Species Act [16 U.S.C. 1531-1544 and Section 1536].

6. Fish and Wildlife Coordination Act [16 U.S.C. 661-667(d)].

7. Migratory Bird Treaty Act [16 U.S.C. 703-712].

8. Section 106 of the National Historic Preservation Act of 1966, as amended [16 U.S.C. 470(f) et seq.].

9. Civil Rights Act of 1964 [42 U.S.C. 2000(d)-2000(d)(1)]

10. Farmland Protection Policy Act [7 U.S.C. 4201-4209].

11. Wetlands and Water Resources: Clean Water Act (Section 404, Section 401, Section 319) [33 U.S.C. 1251-1377]

12. Land and Water Conservation Fund [16 U.S.C. 4601-4604].

13. Rivers and Harbors Act of 1899 [33 U.S.C. 401-406].

14. Executive Order 11990 Protection of Wetlands.

15. Executive Order 11988 Floodplain Management.

16. Executive Order 12898, Federal Actions to Address Environmental Justice in Minority Populations and Low Income Populations.

(Catalog of Federal Domestic Assistance Program Number 20.205, Highway Planning and Construction. The regulations implementing Executive Order 12372 regarding intergovernmental consultation on Federal programs and activities apply to this program.)

Authority: 23 U.S.C. 139(l)(1).

Issued on: February 26, 2008.
Jeffrey W. Kolb,
Division Administrator, Federal Highway Administration, Albany, New York.

[FR Doc. E8-4090 Filed 3-3-08; 8:45 am]

BILLING CODE 4910-RY-P